DEPARTMENT OF THE INTERIOR

National Park Service

Draft General Management Plan/Environmental Impact Statement, Montezuma Castle and Tuzigoot National Monuments, Arizona

AGENCY: National Park Service, Department of the Interior.

ACTION: Notice of Termination of the Environmental Impact Statement for the General Management Plan, Montezuma Castle and Tuzigoot National Monuments.

SUMMARY: The National Park Service (NPS) is terminating preparation of an Environmental Impact Statement (EIS) for the General Management Plan, Montezuma Castle and Tuzigoot National Monuments, Arizona. A Notice of Intent to prepare the EIS for the Montezuma Castle and Tuzigoot National Monuments General Management Plan was published May 29, 2003 (Vol. 68, No. 103).The National Park Service has since determined that an Environmental Assessment (EA) rather than an EIS is the appropriate environmental documentation for the general management plan.

SUPPLEMENTARY INFORMATION: The general management plan will establish the overall direction for the national monuments, setting broad management goals for managing the area over the next 15 to 20 years. The plan was originally scoped as an EIS. Few public comments were received during scoping or in response to the preliminary alternatives. The majority of the concerns expressed by stakeholders focused on continued access to recreational activities. No major concerns were raised regarding the effects on cultural resources resulting from the proposed changes in management of the monuments. Most of the comments received on the preliminary alternatives favored the preferred alternative. Two roundtables attended by representatives from Federal and state agencies, and local governments were conducted. These meetings focused on opportunities to work in partnership and no controversial issues were identified.

In the general management planning process the NPS planning team developed three alternatives for the national monument, none of which would result in substantial changes in the operation and management of the monuments. The preferred alternative primarily focuses on maintaining and protecting resources, expanding interpretation and visitor opportunities where appropriate, addressing maintenance/operations needs, developing new operations facilities within previously disturbed areas. The impact analysis of the alternatives revealed no major (significant) effects on the human environment or impairment of park resources and values. Most of the impacts to the monument's resources and values were negligible to minor in magnitude with the remainder being of moderate level.

For these reasons the NPS determined the appropriate National Environmental Policy Act documentation for the general management plan is an EA.

The draft general management plan/EA is expected to be distributed for a 30 day public comment period in the fall of 2006 and a decision is expected be made in 2007. The NPS will notify the public by mail, website, and other means, and will include information on where and how to obtain a copy of the EA, how to comment on the EA, and the length of the public comment period.

FOR FURTHER INFORMATION CONTACT: Kathy Davis, Superintendent, Montezuma Castle and Tuzigoot National Monuments; P.O. Box 219, Camp Verde, Arizona, 86322; e-mail: Kathy_M_Davis@nps.gov.

Dated: April 28, 2006.
Michael D. Snyder,
Director, Intermountain Region.

[FR Doc. E6-9192 Filed 6-12-06; 8:45 am]

BILLING CODE 4312-EJ-P